ENVIRONMENTAL PROTECTION AGENCY

[FRL-7842-6]

Science Advisory Board Staff Office Clean Air Scientific Advisory Committee (CASAC); Notification of Advisory Meeting of the CASAC Ambient Air Monitoring and Methods (AAMM) Subcommittee

AGENCY: Environmental Protection Agency (EPA).

ACTION: Notice.

SUMMARY: The Environmental Protection Agency (EPA or Agency) Science Advisory Board (SAB) Staff Office announces a public meeting of the Clean Air Scientific Advisory Committee's (CASAC) Ambient Air Monitoring and Methods (AAMM) Subcommittee (Subcommittee) to conduct an advisory meeting for the purpose of providing advice and recommendations on the implementation aspects of the Agency's National Ambient Air Monitoring Strategy.

DATES: The meeting will be held on December 15, 2004, from 9 a.m. to 4 p.m. (eastern time).

Location: The meeting will take place at the SAB Conference Center, 1025 F Street, NW., Suite 3700, Washington, DC 20004. A publicly-accessible teleconference line will be available for the entire meeting.

FOR FURTHER INFORMATION CONTACT: Any member of the public who wishes to obtain the teleconference call-in numbers and access codes; would like to submit written or brief oral comments (5 minutes or less); or wants further information concerning this meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: CASAC and the AAMM Subcommittee: The CASAC, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC, which is administratively located under the SAB Staff Office, is a Federal advisory committee chartered under the Federal Advisory Committee Act (FACA), as amended, 5 U.S.C., App.

The SAB Staff Office established the CASAC AAMM Subcommittee as a standing subcommittee to provide the EPA Administrator, through the CASAC, with advice and recommendations, as necessary, on topical areas related to ambient air monitoring, methods and networks. The Subcommittee complies with the provisions of FACA and all appropriate SAB Staff Office procedural policies.

Background: In late 2002, EPA's Office of Air Quality Planning and Standards (OAQPS), located within the Office of Air and Radiation (OAR), finalized its draft National Ambient Air Monitoring Strategy (NAAMS or Strategy). OAQPS subsequently requested that the CASAC review the draft NAAMS document and provide advice and recommendations to the Agency on the technical bases and design aspects of the Strategy. The SAB Staff Office announced the formation of the NAAMS Subcommittee of the CASAC on November 5, 2002 (67 FR 67403). The CASAC NAAMS Subcommittee held a public meeting in Research Triangle Park, North Carolina, on July 8-9, 2003 (68 FR 34945, June 11, 2003) to conduct this review of the draft Strategy document. The primary recommendations of the CASAC NAAMS Subcommittee, through the chartered CASAC, included a request for an implementation plan, and added emphasis on rural- and ecosystem-oriented monitoring, support for the National Core Monitoring Network (NCore) Level 1 program, and training and quality assurance to enhance data consistency across the Nation. The CASAC NAAMS Subcommittee's complete report from this review is found on the SAB Web page at URL: http://www.epa.gov/sab/pdf/casacl04001.pdf. OAQPS updated the NAAMS document after the CASAC's review of the Strategy. The revision incorporated EPA's responses to the CASAC NAAMS Subcommittee's recommendations.

Earlier this year, the SAB Staff Office announced (69 FR 19180, April 12, 2004) the formation of the CASAC AAMM Subcommittee. This subcommittee replaced the former CASAC NAAMS Subcommittee. Subsequently, OAQPS asked the CASAC AAMM Subcommittee to conduct an advisory meeting for the purpose of providing advice and recommendations on the implementation plan for its updated final draft NAAMS.

Any questions concerning EPA's National Ambient Air Monitoring Strategy or the draft implementation plan should be directed to Dr. Rich Scheffe, OAQPS, at phone: 919-541-4650, or e-mail at: scheffe.rich@epa.gov; or to Mr. Tim Hanley, OAQPS, at phone: (919) 541-4417; or e-mail: hanley.tim@epa.gov.

Availability of Meeting Materials: OAQPS has posted written review and supplementary materials for this advisory meeting of the CASAC AAMM Subcommittee on EPA's Ambient Monitoring Technology Information Center (AMTIC) Web site. The document to be reviewed by the Subcommittee, i.e., the implementation plan found in Chapter 11 of the Agency's final draft National Ambient Air Monitoring Strategy document, is found at URL: http://www.epa.gov/ttn/amtic/files/ambient/monitorstrat/section11.pdf. The entire final draft NAAMS document itself, which was updated following the July 2003 meeting of the former CASAC NAAMS Subcommittee, is posted as supplementary information at the following URL: http://www.epa.gov/ttn/amtic/files/ambient/monitorstrat/allstrat.pdf. Additional background materials for this meeting are found on the “CASAC File Area” page of the AMTIC Web site at URL: http://www.epa.gov/ttn/amtic/casacinf.html. Furthermore, the SAB Staff Office will post a copy of the final agenda and charge to the Subcommittee for this advisory meeting on the SAB Web site at: http://www.epa.gov/sab (under “Meeting Agendas”), and the CASAC AAMM Subcommittee page at: http://www.epa.gov/sab/panels/casac_aamm_subcom.html, respectively, in advance of the Subcommittee's meeting.

Providing Oral or Written Comments at SAB Meetings: It is the policy of the SAB Staff Office to accept written public comments of any length, and to accommodate oral public comments whenever possible. The SAB Staff Office expects that public statements presented at its meetings will not be repetitive of previously-submitted oral or written statements. Oral Comments: In general, each individual or group requesting an oral presentation at a meeting or teleconference will be limited to a total time of five minutes (unless otherwise indicated). Requests to provide oral comments must be in writing (e-mail, fax or mail) and received by Mr. Butterfield no later than noon Eastern Time five business days prior to the meeting in order to reserve time on the meeting agenda. Speakers should bring at least 75 copies of their comments and presentation slides for distribution to the reviewers and public at the meeting. Written Comments: Although the SAB Staff Office accepts written comments until the date of the meeting (unless otherwise stated), written comments should be received in the SAB Staff Office no later than noon Eastern Time five business days prior to the meeting so that the comments may be made available to the CASAC PM Review Panel for their consideration. Comments should be supplied to Mr. Butterfield (preferably via e-mail) at the address/contact information noted above, as follows: one hard copy with original signature, and one electronic copy via e-mail (acceptable file format: Adobe Acrobat PDF, WordPerfect, Word, or Rich Text files (in IBM-PC/Windows 98/2000/XP format)). Those providing written comments and who attend the meeting in person are also asked to bring 75 copies of their comments for public distribution.

Meeting Access: Individuals requiring special accommodation at this meeting, including wheelchair access to the conference room, should contact Mr. Butterfield at the phone number or an e-mail address noted above at least five business days prior to the meeting so that appropriate arrangements can be made.

Dated: November 16, 2004.
Vanessa T. Vu,
Director, EPA Science Advisory Board Staff Office.

[FR Doc. 04-26165 Filed 11-24-04; 8:45 am]

BILLING CODE 6560-50-P